DEPARTMENT OF COMMERCE

National Oceanic and Atmospheric Administration

[RTID 0648-XE154]

Schedule for Atlantic Highly Migratory Species Outreach Workshops

AGENCY: National Marine Fisheries Service (NMFS), National Oceanic and Atmospheric Administration (NOAA), Commerce.

ACTION: Notice of public outreach workshops.

SUMMARY: Three free Atlantic Highly Migratory Species (HMS) Outreach Workshops will be held from August 19, 2024 through August 21, 2024 in locations across Puerto Rico. These workshops are being offered to be responsive to stakeholder requests for additional outreach in Puerto Rico and U.S. Caribbean communities. The objectives of the HMS Outreach Workshops are to educate fishers, dealers, and the general public on HMS regulations, distribute outreach materials, and assist fishers in applying for HMS permits.

DATES: The HMS Outreach Workshops will be held August 19, 2024 through August 21, 2024. See the SUPPLEMENTARY INFORMATION section for the specific dates and times.

ADDRESSES: The HMS Outreach Workshops will be held in Cataño, Guayama, and Fajardo, Puerto Rico. See the SUPPLEMENTARY INFORMATION section for the specific locations.

FOR FURTHER INFORMATION CONTACT: Delisse Ortiz, delisse.ortiz@noaa.gov, 301-427-8530.

SUPPLEMENTARY INFORMATION: Atlantic HMS fisheries are managed under the 2006 Consolidated HMS Fishery Management Plan and its amendments pursuant to the Magnuson-Stevens Fishery Conservation and Management Act (16 U.S.C. 1801 et seq.) and consistent with the Atlantic Tunas Convention Act (16 U.S.C. 971 et seq.). HMS implementing regulations are at 50 CFR part 635.

Atlantic Highly Migratory Species Outreach Workshop

In recent years, HMS fisheries stakeholders, including fishers, dealers, and the general public, have requested that NMFS prioritize HMS fisheries management education and outreach in the U.S. Caribbean, specifically in Puerto Rico. To be responsive to stakeholder needs in Puerto Rico, NMFS is carrying out free HMS Outreach Workshops across three locations in Puerto Rico. The workshops are designed to educate fishers, dealers, and the general public on HMS regulations, distribute outreach materials, and assist fishers and dealers in applying for HMS permits. The increased engagement, outreach, and education in the U.S. Caribbean as a result of the HMS Outreach Workshops will help meet NMFS's goal of promoting sustainable fisheries and address key shark management outreach requests by our stakeholders in that region. These workshops are also consistent with NMFS's effort to encourage the involvement of disadvantaged or underserved communities consistent with Executive Orders 14008, 12898, and 13895.

Workshop Dates, Times, and Locations

1. August 19, 2024, 5 p.m.-7 p.m. AST, Villa Pesquera de Cataño, Centro Agropecuario, CVRF+QW4, Las Nereidas Ave., Cataño, PR 00962.

2. August 20, 2024, 4 p.m.-6 p.m. AST, Club Náutico de Guayama, Carr. 7710 Final Bo Pozuelo, Guayama, PR 00784.

3. August 21, 2024, 5 p.m.-7 p.m. AST, Centro de Usos Multiples de Fajardo, Salon B, Calle Dr. Lopez, Estacionamiento Municipal (5to piso), Fajardo, PR 00738.

Additional free HMS Outreach Workshops could be conducted in 2025 and will be announced in a future notice.

Authority: 16 U.S.C. 1801 et seq.

Dated: August 5, 2024.
Claudia Stephanie Womble,
Acting Director, Office of Sustainable Fisheries, National Marine Fisheries Service.

[FR Doc. 2024-17618 Filed 8-7-24; 8:45 am]

BILLING CODE 3510-22-P